DEPARTMENT OF THE INTERIOR

National Park Service

[2280-665]

National Register of Historic Places; Notification of Pending Nominations and Related Actions

Nominations for the following properties being considered for listing, removal, or related actions in the National Register were received by the National Park Service before October 30, 2010. Pursuant to sections 60.13 and 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington, DC 20005; or by fax, 202-371-6447. Written or faxed comments should be submitted by November 30, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

FLORIDA

Jefferson County

Letchworth Mounds Archeological Site, Address Restricted, Tallahassee, 10001034

Volusia County

Ormond Fire House, 160 E Granada Blvd, Ormond Beach, 10001033

MAINE

Androscoggin County

Bates Mill Historic District, Roughly bounded by Canal St, Chestnut St, Lincoln St, and Main St, Lewiston, 10001036

Washington County

Jonesboro Grange #357, Harrington Road, Jonesboro, 10001035

MASSACHUSETTS

Essex County

Hayes, Charles H., Building, 14-44 Granite St, Haverhill, 10001006

Norfolk County

Weymouth Meeting House Historic District, Church, East, Green, North, and Norton Sts, Weymouth, 10001007

MICHIGAN

Ingham County

Lansing Artillery Michigan National Guard Armory, 330 Marshall St, Lansing, 10001025

Muskegon County

Lewis, John C. and Augusta Covell, House, 324 S Mears Ave, Whitehall, 10001027

Oakland County

Griggs Brothers Rochester Elevator Company Grain Elevator, 303 East University Drive, Rochester, 10001028

Pleasant Ridge Historic District (Boundary Increase), W of Ridge Rd to city limits of Royal Oak, Huntington Woods, Oak Park, and Ferndale, Pleasant Ridge, 10001024

Washtenaw County

McGregor Memorial Conference Center, 495 Ferry Mall, Detroit, 10001023

Saint Mary's School, 400 Congdon St, Chelsea, 10001026

Wayne County

Hull's Trace North Huron River Corduroy Segment, 36000 W Jefferson Ave, Brownstown Township, 10001022

N. MARIANA ISLANDS

Saipan Municipality

Japanese Jail Historic and Archeological District, Chichirica Ave and Ghiyobw St, Garapan, 10001017

NEBRASKA

Buffalo County

Harmon Park, Roughly bounded by 33rd St and 5th Ave, Kearney, 10001002

Gage County

Dole, Marion and Ruth Ann, House, 1908 S 4th St, Beatrice, 10001003

Lancaster County

Agricultural Hall, Lincoln's State Fairgrounds, Lincoln, 10001001

Pawnee County

Pawnee City Carnegie Library, (Carnegie Libraries in Nebraska MPS) 730 G St, Pawnee City, 10001004

OKLAHOMA

Jefferson County

Archeological Site 34Jf109, Address Restricted, Belleville, 10001014

Kay County

Downtown Ponca City Historic District, Roughly bounded by Pine, Chestnut, 7th St, and Central Ave, Ponca City, 10001010

Latimer County

Eastern Oklahoma Tuberculosis Sanatorium, 10014 SE 1138th Ave, Talihina, 10001008

Love County

Archeological Site 34LV181, Address Restricted, Rubottom, 10001015

Archeological Site 34LV184, Address Restricted, Leon, 10001016

Oklahoma County

Main Public Library, 131 Dean McGee Ave, Oklahoma City, 10001009

Tulsa County

KATY Railroad Historic District, Roughly along W Easton and the old KATY Railroad Right-of-Way between N Cheyenne and N Boston Aves, Tulsa, 10001012

North Cheyenne Avenue Historic District, Roughly along E/W Frisco Tracks and Alley between W Archer and W Brady Sts, N Denver and Alley between N Boulder, Tulsa, 10001011

Oil Capital Historic District, Roughly between 3rd and 7th Sts and Cincinnati and Cheyenne Aves, Tulsa, 10001013

PENNSYLVANIA

Delaware County

Eden Cemetery, 1434 Springdale Rd, Collingdale, 10001031

Philadelphia County

Girard Avenue West Historic District, W Girard Ave between N Taney and N 30th Sts, Philadelphia, 10001032

Greenbelt Knoll Historic District, I-19 Longford St, roughly bounded by Holme Ave and Pennypack Park Greenway, Philadelphia, 10001030

WASHINGTON

King County

Washington Hall, 153 14th Ave, Seattle, 10001018

Skagit County

President Hotel, 310 Myrtle St, Mount Vernon, 10001021

Snohomish County

Hewitt Avenue Historic District, 1620-1915 Hewitt Ave and portions of Wetmore, Rockefeller, Oakes, and Lombard Ave, Everett, 10001020

Spokane County

Piollet, Victor & Jean, House, 606 W 16th Ave, Spokane, 10001019

WEST VIRGINIA

Doddridge County

West Union Residential Historic District, Roughly bounded by Court St, Stuart St, Wood St, an Garrison Ave, West Union, 10001029

WISCONSIN

Ozaukee County

NORTHERNER Shipwreck (Schooner), (Great Lakes Shipwreck Sites of Wisconsin MPS) 5 mi SE of Port Washington Harbor in Lake Michigan, Town of Grafton, 10001005

Request for REMOVAL has been made for the following resource:

OREGON

Multnomah County

Brown, Capt. John A., House, 525 NW 19th Ave, Portland, 71001086

[FR Doc. 2010-30112 Filed 11-29-10; 8:45 am]

BILLING CODE 4312-51-P